DEPARTMENT OF ENERGY

Federal Energy Regulatory Commission

[Docket No. RP04-12-000]

Florida Gas Transmission Company; Notice of Informal Settlement Conference

March 19, 2004.

Take notice that an informal settlement conference will be convened in this proceeding starting at 9:30 a.m. on Tuesday, March 30, 2004, and continuing at 9:30 a.m. on Wednesday, March 31, 2004, in a room to be announced at a later date, at the Federal Energy Regulatory Commission, 888 First Street, NE., Washington, DC 20426, for the purpose of exploring a possible settlement.

Any party, as defined by 18 CFR 385.102(c), or any participant as defined by 18 CFR 385.102(b), is invited to attend. Persons wishing to become a party must move to intervene and receive intervenor status pursuant to the Commission's regulations (18 CFR 385.214).

For additional information, please contact Hollis Alpert at 202-502-8783, hollis.alpert@ferc.gov.

Magalie R. Salas,
Secretary.

[FR Doc. E4-673 Filed 3-24-04; 8:45 am]

BILLING CODE 6717-01-P